DEPARTMENT OF STATE

22 CFR Part 42

[Public Notice 4138]

RIN 1400-AB22

Visas: Documentation of Immigrants—International Broadcasters

AGENCY: Department of State.

ACTION: Final rule.

SUMMARY: This rule adopts as final the Department's interim rule which created a new special immigrant visa classification for certain international broadcasting employees of the International Broadcasting Bureau of the Broadcasting Board of Governors or grantees of that Board.

Effective Date: This rule takes effect on September 26, 2002.

FOR FURTHER INFORMATION CONTACT: Pam Chavez, Legislation and Regulations Division, Visa Services, Department of State, Washington, DC 20520-0106.

SUPPLEMENTARY INFORMATION:

What Is the Authority for This Rule?

On March 19, 2001, the Department published an interim rule [66 FR 15349] that implemented Public Law 106-536 (November 22, 2000). This Act created a new class of special immigrants under INA 203(b)(4) for international broadcasting employees. Such aliens must be seeking to enter the United States to work as a broadcaster for the International Broadcasting Bureau of the Broadcasting Board of Governors, or for a grantee of the Broadcasting Board of Governors. The alien's accompanying spouse and child(ren) are entitled to derivative status. The law limits the number of immigrants in this category to 100 annually, excluding spouses and children for whom there is no numerical limitation.

Were Comments Solicited in the Department's Interim Rule?

The Department's interim rule solicited comments, however, no comments were received.

Final Rule

Since no comments were received, no change to the interim rule is required and the Department does not believe it is necessary to reprint the regulation in this final rule.

PART 42—[AMENDED]

1. The authority citation for part 42 continues to read as follows:

Authority: 8 U.S.C. 1104.

2. Accordingly, the Department adopts as final interim rule 66 FR 15349, as published in the Federal Register on March 19, 2001.

Dated: September 20, 2002.
George Lannon,
Acting Assistant Secretary for Consular Affairs, Department of State.

[FR Doc. 02-24471 Filed 9-25-02; 8:45 am]

BILLING CODE 4710-06-P